DEPARTMENT OF AGRICULTURE

Submission for OMB Review; Comment Request

April 5, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 10, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Distribution Program on Indian Reservations (FDPIR) Paraprofessional Nutrition Training Assessment for Indian Tribal Organizations (ITOs).

OMB Control Number: 0584-NEW.

Summary of Collection: The Food Distribution Division (FDD) at the Food and Nutrition Service is considering developing and delivering a paraprofessional nutrition training program for Food Distribution Program on Indian Reservation staff within Indian Tribal Organizations (ITOs). The objective of the FDPIR Paraprofessional Nutrition Training Assessment for Indian Tribal Organizations is to provide FNS with information of the best way to deliver the training to staff.

Need and Use of the Information: This data collection will help FNS to assess interest in a paraprofessional training project, determine the nutrition training topics that are most valued by ITOs and FDPIR staff, determine the most effective and culturally relevant format for training; and, determine the motivational factors for staff that might influence their participation in nutrition training.

Description of Respondents: 23 (ITOs) at the State, Local or Tribal Government.

Number of Respondents: 99 Staff Members.

Frequency of Responses: Reporting: Annually.

Total Burden Hours: 81.80.

Ruth Brown,
Departmental Information Collection Clearance Officer.

[FR Doc. 2017-07144 Filed 4-7-17; 8:45 am]

BILLING CODE 3410-30-P